Title 3—

The President

Proclamation 10079 of September 18, 2020

National Farm Safety and Health Week, 2020

By the President of the United States of America

A Proclamation

Since our Nation's founding, agriculture has played an integral role in the American way of life. America's farmers and agricultural workers are critical to our economy, and concern for their physical and mental safety must remain a top national priority. Together, we must continue to ensure our farmers, ranchers, and foresters have the ability to work safely and effectively as they provide food, fiber, and fuel for our country. During National Farm Safety and Health Week, we raise awareness of safety and health issues on farms, ranches, and in rural communities, and we commit to improving the well-being of those who live and work in rural settings for generations to come.

The theme of National Farm Safety and Health Week this year, “Every Farmer Counts,” reminds us that every American must prioritize the safety and health of those who provide us with essential goods. The fall harvest is one of the busiest and most dangerous seasons of the year for agricultural workers. In preparation, and to propel continued innovation in farm productivity and safety, my Administration is supporting 21st-century artificial intelligence and greater precision in agricultural applications. Additionally, we have made significant investments in rural hospitals, rural broadband, and access to telemedicine. My Administration has also prioritized the expansion of prevention, treatment, and recovery programs for the misuse of opioids in rural America. This week, we rededicate ourselves to these efforts to maximize the safety and health of agricultural producers through best practices, innovative technologies, and production methods that reduce risk and create safer, more productive work environments.

Addressing farm safety and health concerns requires more than just protecting agricultural workers from routine farm injuries. Our efforts also include addressing disease outbreaks and health crises, such as the coronavirus pandemic. This past spring, I instructed our Federal agencies to publish coronavirus safety guidelines addressing the specific needs of agricultural workers and food processing workers, all of which work hard to ensure America's critical food supply remains strong. To aid producers affected by the pandemic, my Administration is providing $34 billion to America's farmers through a variety of programs, including $30 billion in direct payments through the Coronavirus Food Assistance Program and the innovative $4 billion Farmers to Families Food Box Program, which supports American food producers and communities in need.

This National Farm Safety and Health Week, we also commend our first-class medical professionals and brave first responders serving in rural communities throughout the country. When our agricultural workers experience illness, injury, or health crises, our rural emergency medical responders are their heroes. With the support of these committed Americans, and our continued support for programs enhancing farm safety, we will ensure every farmer—and every American life in rural and remote communities—counts.

NOW, THEREFORE, I, DONALD J. TRUMP, President of the United States of America, by virtue of the authority vested in me by the Constitution and the laws of the United States, do hereby proclaim September 20 through September 26, 2020, as National Farm Safety and Health Week. Please join me in promoting safe and healthy practices on our farms and ranches as producers enter the harvest season across the United States. I also urge all Americans to express their appreciation and gratitude to our farmers, ranchers, and foresters for their important contributions and tireless service to our Nation. The United States was built on the foundation of agriculture, and agriculture was built on the foundation of family farmers and their enduring values.

IN WITNESS WHEREOF, I have hereunto set my hand this eighteenth day of September, in the year of our Lord two thousand twenty, and of the Independence of the United States of America the two hundred and forty-fifth.

[FR Doc. 2020-21378

Filed 9-24-20; 8:45 am]

Billing code 3295-F0-P